NATIONAL SCIENCE FOUNDATION

Agency Information Collection Activities: Comment Request

AGENCY: National Science Foundation.

ACTION: Submission for OMB Review; Comment Request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 68 FR 75652 and no comments were received. NSF is forwarding the proposed submission to the Office of Management and Budget (OMB) for clearance simultaneously with the publication of this second notice.

DATES: Comments regarding these information collections are best assured of having their full effect if received by OMB within 30 days of publication in the Federal Register

ADDRESSES: Written comments regarding (a) whether the collection of information is necessary for the proper performance of the functions of NSF, including whether the information will have practical utility; (b) the accuracy of NSF's estimate of burden including the validity the methodology and assumptions used; (c) ways to enhance the quality, utility and clarity of the information to be collected; or (d) ways to minimize the burden of the collection of information on those who are to respond, including through the use of appropriate automated, electronic, mechanical, or other technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Copies of the submission may be obtained by calling (703) 292-7556.

FOR FURTHER INFORMATION CONTACT: Suzanne H. Plimpton, NSF Reports Clearance Officer at (703) 292-7556 or send e-mail to splimpto@nsf.gov.

An Agency may not conduct or sponsor a collection of information unless the collection of information displays a currently valid OMB control number and the agency informs potential persons who are to respond to the collection of information unless it displays a currently valid OMB control number.

SUPPLEMENTARY INFORMATION: Title of Collection: Evaluation of the Research Experiences for Teacher (RET) Program.

OMB Number: 3145-NEW.

Type of Request: Intent to seek approval to carry out a new information collection for one year.

Abstract: Proposed Project: The Directorate for Engineering (ENG) initiated the Research Experiences for Teachers (RET) Supplements activity in FY 2001 to be add-ons to active award funded by ENG programs. The intent was to build on the popular NSF-wide Research Experiences for Undergraduates (REU) Supplements activity by providing opportunities for K-12 teachers to conduct hands-on experiences in the laboratories/facilities of ENG-funded researchers interested in participating in RET. Typically the supplements supported one or two teachers. The assumption was that the teachers could also benefit from involvement in research and direct exposure to the scientific method and transfer what they learned into classroom activities. Since then, ENG has funded RET Site awards, which are similar to REU Sites in that NSF awards fund groups of teachers to work with faculty members at the same institution and to engage in group activities related to the research. In 2003, community college faculty became eligible as participants in RET awards.

This study of RET will include participants in RET Supplement and Site awards from 2001-2003 funded by the Division of Engineering Education and Centers, the Division of Bioengineering and Environmental Systems, and the Division of Design, Manufacture, and Industrial Innovation. The study will examine whether the scale and programmatic characteristics of the larger group awards, such as those funded as RET Sites, bring about different outcomes and impacts on the teachers and their subsequent instructional and professional activities, compared with those resulting from involvement in the typical small-scale RET Supplement. NSF wishes to know how RET experiences have affected participating teachers' subsequent teaching techniques and content modifications made as a result of teachers' RET activities. In addition, outcomes and impacts beyond the teachers' own classrooms from the research experiences, e.g., follow-up knowledge transfer activities, any formal partnerships formed between the awardee and the teachers' school system/district, or community college, etc. should also be examined. The collection will be done on the World Wide Web.

Estimate of Burden: Public reporting burden for this collection of information is estimated to average 30 minutes per response.

Respondent: Individuals.

Estimated Number of Responses per Form: 596.

Estimated Total Annual Burden on Respondents: 298 hours—596 respondents at 30 minutes per response.

Frequency of Responses: One time.

Comments: Comments are invited on (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: March 9, 2004.
Suzanne Plimpton,
Reports Clearance Officer, National Science Foundation.

[FR Doc. 04-5751 Filed 3-12-04; 8:45 am]

BILLING CODE 7555-01-M